NATIONAL TRANSPORTATION SAFETY BOARD

Notice of Meetings; Sunshine Act

Agenda

Time and Date: 9:30 a.m., Tuesday, February 7, 2006.

Place: NTSB Board Room, 429 L'Enfant Plaza, SW., Washington, DC 20594.

Status: The two items are open to the public.

Matters to Be Considered:

7743: Highway Accident Report—Collision Between a Ford Dump Truck and Four Passenger Cars, Glen Rock, Pennsylvania, April 11, 2003.

7754: Highway Accident Report—Passenger Vehicle Median Crossover and Head-On Collision With Another Passenger Vehicle, Linden, New Jersey, May 1, 2003

News Media Contact: Telephone: (202) 314-6100.

Individuals requesting specific accommodations should contact Chris Bisett at (202) 314-6305 by Friday, February 3, 2006.

The pubic may view the meeting via a live or archived webcast by accessing a link under “News & Events” on the NTSB home page at http://www.ntsh.gov.

FOR FURTHER INFORMATION CONTACT: Vicky D'Onofrio, (202) 314-6410.

Dated: January 27, 2006.
Vicky D'Onofrio,
Federal Register Liaison Officer.

[FR Doc. 06-938 Filed 1-27-06; 1:52 pm]

BILLING CODE 7533-01-M